DEPARTMENT OF AGRICULTURE

Agricultural Marketing Service

7 CFR Part 51

[Docket No. AMS-FV-2007-0008; FV-06-310]

United States Standards for Grades of Florida Avocados

AGENCY: Agricultural Marketing Service, USDA.

ACTION: Advance notice on proposed rulemaking; withdrawal.

SUMMARY: The Agricultural Marketing Service (AMS) is withdrawing an advance notice of proposed rulemaking soliciting comments on possible revisions to the voluntary United States Standards for Grades of Florida Avocados. After reviewing and considering the comments received, the agency has decided not to proceed further with this action.

DATES: The advance notice of proposed rulemaking is withdrawn as of November 5, 2007.

FOR FURTHER INFORMATION CONTACT: Vincent J. Fusaro, Standardization Section, Fresh Products Branch, (202) 720-2185. The United States Standards for Grades of Florida Avocados are available either through the address cited above or by accessing the Fresh Products Branch Web site at: http://www.ams.usda.gov/standards/stanfrfv.htm.

Background

AMS had identified the United States Standards for Grades of Florida Avocados for possible revisions. AMS solicited comments on possible revisions to the standards including deleting “Florida” to allow the standards to apply to all avocados. The standards were published on September 3, 1957.

On March, 29, 2007, AMS published an advance notice of proposed rulemaking in the Federal Register (72 FR 14709), soliciting comments on a possible revision to the United States Standards for Grades of Florida Avocados. A request was received on behalf of a foreign government expressing the need for additional time to comment. Following a review of the request, AMS published a notice in the Federal Register (72 FR 38057), on July 12, 2007, extending the period for comment.

During the initial sixty-day comment period, three opposing comments and one supporting comment were received. The three opposing comments were submitted by a foreign avocado committee, a company representing growers/packers, and a national trade association representing wholesale receivers. The opposing commenters stated that this revision would not be beneficial to their industry as Florida avocados have unique characteristics which differ significantly from other varieties specifically, the Hass variety. They held the view that the revision would directly affect the Florida Marketing Order (7 CFR Part 915) and imports of the Hass variety. The Hass variety of avocados is not regulated currently under the marketing order.

During the extension of the comment period, four opposing comments were received by a foreign government, a foreign avocado committee, a grower/shipper of avocados, and another from an association of packers, producers, and exporters. All expressed concerns regarding the effect this proposed revision might have on the marketing order and import requirements and a comment raised concerns regarding the treatment of California avocados under the proposed standard. The comments are available by accessing the http://www.regulations.gov Web site.

While deleting the word “Florida” from the title of the standard would not impact the marketing order and/or import requirements, AMS understands the views and concerns expressed by the avocado industry. After considering all of the comments received regarding the proposed revisions, AMS has decided not to proceed further with this action. Therefore, the advance notice of proposed rulemaking, published March 29, 2007 (72 FR 14709), is withdrawn.

Authority: 7 U.S.C. 1621-1627.

Dated: October 29, 2007.
Lloyd C. Day,
Administrator, Agricultural Marketing Service.

[FR Doc. 07-5468 Filed 11-2-07; 8:45 am]

BILLING CODE 3410-02-M